ENVIRONMENTAL PROTECTION AGENCY

[FRL-7821-7]

Notice of Launch of Children's Environmental Health Awards Program

AGENCY: Environmental Protection Agency (EPA).

ACTION: Notice.

SUMMARY: The Office of Children's Health Protection at the U.S. Environmental Protection Agency is pleased to announce the First Annual Children's Environmental Health Awards. The awards are designed to increase awareness, stimulate activity, and recognize efforts that protect children from environmental health risks at the local, regional, national, and international level.

Level One Recognition Awards are designed for groups or individuals who have demonstrated a level of commitment to protect children from environmental risks. Applicants must show that they have initiated outreach, education, or intervention activities.

Level Two Excellence Awards are designed to recognize applicants who have demonstrated leadership and a track record in the protection of children from environmental health risks. Outreach, education, and intervention projects or programs must have been in place for at least 6 months.

Applications are due December 15, 2004, and an awards ceremony will be held for the winners in Washington, DC, in March 2005

FOR FURTHER INFORMATION CONTACT: Contact Carolyn Hubbard, Office of Children's Health Protection for more information or copies of the application, USEPA, MC 1107A, 1200 Pennsylvania Avenue, NW., Washington, DC 20460, (202) 564-2189, hubbard.carolyn@epa.gov.

SUPPLEMENTARY INFORMATION: Children may be more susceptible to environmental hazards than adults. Their nervous, immune, digestive, and other systems are still developing and their ability to metabolize or inactivate toxicants may be different than adults. They eat more food, drink more fluids, and breathe more air in proportion to their weight than adults, and their behavior—such as crawling and placing objects in their mouths—may result in greater exposure to environmental contaminants.

Environmental health hazards that may affect children include: (1) Air pollutants, both indoor and ambient; (2) toxic chemicals such as lead, mercury, arsenic, organochlorines such as polychlorinated biphenyls, and dioxins; (3) endocrine disruptors; (4) environmental tobacco smoke; (5) ultraviolet radiation; (6) water pollution; (7) pesticides; (8) brominated flame retardants; (9) radon; and (10) carbon monoxide. Many environmental health problems can be prevented, managed, and treated. EPA encourages communities, citizens, and organizations to become leaders in protecting our children from environmental health hazards.

Award Levels

Level 1—Recognition Award

Recognition awards are designed for groups or individuals who have demonstrated a level of commitment to protect children from environmental risks. Applicants must show that they have initiated outreach, education, or intervention activities. Winners will receive a certificate of recognition signed by the Director of EPA's Office of Children's Health Protection and use of the children's environmental health awards logo.

Who Should Apply? Individuals, communities, non-profit organizations, schools and universities, and governmental agencies.

Level 2—Excellence Award

Excellence awards are designed to recognize applicants who have demonstrated leadership and a track record in the protection of children from environmental health risks. Outreach, education, and intervention projects or programs must have been in place for at least 6 months.

Applications will be judged based on innovation, effectiveness, ability to measure success, and replication potential. Ten to twenty award winners will be invited to an awards ceremony in Washington, DC in March 2005, where they will receive a plaque. They will also receive use of the children's environmental health awards logo, recognition on EPA's Web site and in a press release, and photos with a senior EPA official.

Who Should Apply? Individuals, communities, non-profit organizations, schools and universities, governmental agencies, and businesses.

Award Activity Descriptions

Outreach

Outreach efforts increase public awareness about children's environmental health issues. Projects may include public awareness campaigns, public service announcements, and events to highlight the importance of protecting children from environmental health risks.

Education

EPA will recognize projects or programs that teach the public about the relationship between their environment and children's health. Education efforts may include instruction on how to improve the environment in order to protect children's health, prevent or reduce exposure to harmful environmental agents, or manage environmentally-related illness.

Intervention

Intervention programs are designed to improve the environment, prevent or reduce exposure to environmental contaminants, or improve the environmental health of children. Programs may include implementing policies that protect children from environmental risks, voluntary efforts, or taking any other action that directly reduces environmental health risks to children.

Dated: September 22, 2004.
William H. Sanders, III,
Acting Director, Office of Children's Health Protection.

[FR Doc. 04-21802 Filed 9-28-04; 8:45 am]

BILLING CODE 6560-50-P